DEPARTMENT OF COMMERCE

National Oceanic and Atmospheric Administration

[I.D. 011303E]

Taking and Importing of Marine Mammals

AGENCY: National Marine Fisheries Service (NMFS), National Oceanic and Atmospheric Administration, Commerce.

ACTION: Notice.

SUMMARY: This notice announces that on January 21, 2003, the United States District Court for the Northern District of California issued an order that stayed the implementation of the final finding made on December 31, 2002, by the Assistant Administrator for Fisheries, NMFS, (Assistant Administrator). The stay of the labeling standard for “dolphin-safe” tuna became effective on January 23, 2003, and shall remain in effect for 90 days from the effective date or until a ruling is issued on a motion for a preliminary injunction, to be published in the Federal Register.

DATES: Effective on January 23, 2003.

FOR FURTHER INFORMATION CONTACT: Nicole R. Le Boeuf, Office of Protected Resources, NMFS, 301-713-2322.

SUPPLEMENTARY INFORMATION: The Dolphin Protection Consumer Information Act (DPCIA) (16 U.S.C. 1385), as amended by the International Dolphin Conservation Program Act, requires the Secretary of Commerce (Secretary) to make a finding, based on the results of specified scientific research, information obtained under the International Dolphin Conservation Program, and any other relevant information, as to whether the intentional deployment on or encirclement of dolphins with purse seine nets is having a “significant adverse impact” on any depleted dolphin stock in the eastern tropical Pacific Ocean (ETP). On December 31, 2002, the Assistant Administrator, on behalf of the Secretary, issued a final finding required under subsection (g)(2) of the DPCIA published a notification in the Federal Register on January 15, 2003 (68 FR 2010).

In the final finding, the Assistant Administrator determined that the chase and intentional deployment on or encirclement of dolphins with purse seine nets is not having a significant adverse impact on depleted dolphin stocks in the ETP. The final finding changed the definition of dolphin-safe for tuna products containing tuna harvested in the ETP by purse seine vessels with carrying capacity greater than 400 short tons and exported from, sold in, the United States. Based upon the final finding, the definition of dolphin-safe for such tuna will be governed by the provisions of subsection (h)(1) of the DPCIA (16 U.S.C. 1385). Under this definition, dolphin-safe means that dolphins can be encircled or chased during the trip in which the tuna was harvested, but that no dolphins can be killed or seriously injured in the set in which the tuna was harvested.

On December 31, 2002, Earth Island Institute, eight organizations, and one individual person filed a complaint in the United States District Court for the Northern District of California. This complaint challenges the final finding of the Assistant Administrator and seeks to enjoin any change to the dolphin-safe labeling standard for tuna harvested with purse seine nets.

On January 21, 2003, the Court, at the request of all parties, issued an order that stayed the implementation the final finding. Under the terms of this order, the labeling standard for dolphin-safe tuna shall be governed by the provisions of subsection (h)(2) of the DPCIA. Under that provision, tuna harvested by purse seine vessels with 400 short tons or greater carrying capacity in the ETP is deemed dolphin-safe if, “no tuna were caught on the trip in which such tuna were harvested using a purse seine net intentionally deployed on or to encircle dolphins, and no dolphins were killed or seriously injured during the sets in which the tuna were caught.” The terms of the order further provide that this labeling standard shall remain in effect for 90 days from the date of the order or until a ruling is issued on a motion for a preliminary injunction, which will be published in the Federal Register.

Dated: January 23, 2003.
Rebecca J. Lent,
Deputy Assistant Administrator for Regulatory Programs, National Marine Fisheries Service.

[FR Doc. 03-1973 Filed 1-24-03; 12:28 pm]

BILLING CODE 3510-22-S